NUCLEAR REGULATORY COMMISSION

Draft Report for Comment: Office of Nuclear Reactor Regulation Standard Review Plan, Section 13.3, “Emergency Planning”

AGENCY: Nuclear Regulatory Commission.

ACTION: Notice of availability and request for comments.

SUMMARY: The U.S. Nuclear Regulatory Commission's (NRC) Office of Nuclear Reactor Regulation (NRR) and Office of Nuclear Security and Incident Response (NSIR) has issued Section 13.3, Second Draft Revision 3, “Emergency Planning,” of NUREG-0800, “Standard Review Plan for the Review of Safety Analysis Reports for Nuclear Power Plants, LWR Edition,” for public comment.

DATES: Comments on this document should be submitted by November 13, 2006. To ensure efficient and complete comment resolution, comments should include references to the section, page, and line numbers of the document to which the comment applies.

ADDRESSES: NUREG-0800, including Section 13.3, Second Draft Revision 3, is available for inspection and copying for a fee at the Commission's Public Document Room, NRC's Headquarters Building, 11555 Rockville Pike (First Floor), Rockville, Maryland. The Public Document Room is open from 7:45 a.m. to 4:15 p.m., Monday through Friday, except on Federal holidays. NUREG-0800, including Section 13.3, Second Draft Revision 3, is also available electronically on the NRC Web site at: http://www.nrc.gov/reading-rm/doc-collections/nuregs/staff/sr0800/, and from the ADAMS Electronic Reading Room on the NRC Web site at: http://www.nrc.gov/reading-rm/adams.html (ADAMS Accession No. ML062550293).

Members of the public are invited and encouraged to submit written comments. Comments may be accompanied by additional relevant information or supporting data. A number of methods may be used to submit comments. Written comments should be mailed to Chief, Rulemaking, Directives, and Editing Branch, U.S. Nuclear Regulatory Commission, Mail Stop T6-D59, Washington, DC 20555-0001. Hand-deliver comments to: 11555 Rockville Pike, Rockville, MD, between 7:30 a.m. and 4:15 p.m., Federal workdays. Comments may be submitted electronically to: nrcrep@nrc.gov. Comments also may be submitted electronically through the comment form available on the NRC Web site at: http://www.nrc.gov/reading-rm/doc-collections/nuregs/staff/sr0800/.

Please specify the report number NUREG-0800, Section 13.3, Second Draft Revision 3, in your comments, and send your comments by November 13, 2006.

FOR FURTHER INFORMATION, CONTACT: Bruce Musico, Mail Stop O-6H2, U.S. Nuclear Regulatory Commission, Washington, DC 20555-0001. Telephone: (301) 415-2310; internet: bjm2@nrc.gov.

SUPPLEMENTARY INFORMATION: This Standard Review Plan, NUREG-0800, has been prepared to establish criteria that the NRR and NSIR staff responsible for the review of applications to construct and operate nuclear power plants intends to use in evaluating whether an applicant/licensee meets the NRC's regulations. The Standard Review Plan is not a substitute for the NRC's regulations, and compliance with it is not required. However, applicants are required to identify differences in design features, analytical techniques, and procedural measures proposed for a facility and corresponding SRP acceptance criteria, and evaluate how the proposed alternatives to the SRP acceptance criteria provide an acceptable method of complying with the NRC's regulations.

The standard review plan sections are keyed to Regulatory Guide 1.70, “Standard Format and Content of Safety Analysis Reports for Nuclear Power Plants (LWR Edition).” Not all sections of the standard format have a corresponding review plan section. For combined license applications submitted under 10 CFR part 52, the applicability of standard review plan sections will be based on the Regulatory Guide DG-1145, “Combined License Applications for Nuclear Power Plants (LWR Edition),” as superceded by the final guide.

The proposed revision is a rewrite of the July 1981 SRP Section 13.3, Revision 2, and provides staff guidance for the review of emergency planning information submitted in license applications under 10 CFR parts 50 and 52. In addition to updating the July 1981 SRP section, the proposed revision includes some of the proposed changes in the April 1996 draft Revision 3 to SRP section 13.3. The proposed revision consists mostly of changes that identify specific regulations and guidance, and provides SRP acceptance criteria for the various applications submitted under both 10 CFR parts 50 and 52. The most significant changes reflect the new application processes allowed by 10 CFR part 52. This also includes the incorporation of Commission policy on the use of emergency planning inspections, tests, analyses, and acceptance criteria (EP-ITAAC), which is addressed in the February 22, 2006, SRM SECY-05-0197, “Review of Operational Programs in a Combined License Application and Generic Emergency Planning Inspections, Tests, Analyses, and Acceptance Criteria” (ML052770225). In addition, the proposed revision incorporates experience gained from the first three early site permit (ESP) application reviews, and the standard design certification applications. The license application review processes in both 10 CFR part 50 and part 52 utilize the same existing emergency planning requirements contained primarily in 10 CFR 50.47 and Appendix E to part 50.

While the proposed SRP Section 13.3 revision is a complete rewrite of Section 13.3, it does not contain new or unreviewed staff positions. It does, however, identify a new NUREG/CR report on evacuation time estimates (ETEs). Guidance on the development of ETEs was provided in November 1980 in NUREG-0654/FEMA-REP-1, Revision 1, “Criteria for Preparation and Evaluation of Radiological Emergency Response Plans and Preparedness in Support of Nuclear Power Plants,” and that guidance is still used today. The staff will continue to use the established guidance and criteria in Appendix 4, “Evacuation Time Estimates Within the Plume Exposure Pathway Emergency Planning Zone,” of NUREG-0654/FEMA-REP-1, as the basis for compliance with applicable regulations.

The new (January 2005) ETE report, NUREG/CR-6863, “Development of Evacuation Time Estimate Studies for Nuclear Power Plants,” is identified in the proposed SRP Section 13.3 revision as providing information relating to performing an ETE analysis. In March 1992, NUREG/CR-4831, “State of the Art in Evacuation Time Estimate Studies for Nuclear Power Plants,” was written to provide updated information, assumptions, and methods to be used in performing ETE studies. NUREG/CR-6863 updates NUREG/CR-4831 and integrates new technologies in traffic management, computer modeling, and communication systems to identify additional tools useful in the development of new, or updates to existing, ETEs.

Of note, the proposed revision does introduce the option to use EP-ITAAC in an ESP application, which is consistent with the ongoing 10 CFR part 52 rulemaking (see proposed 10 CFR 52.17(b)(3)). Prior to the current 10 CFR part 52 rulemaking, the rules only addressed the use of EP-ITAAC with a combined license (COL) application but not at the ESP stage. The staff's position, which is supported by public comments, is that the extension of EP-ITAAC to ESP applications is not precluded in the existing rules, and is necessary in order to accommodate an applicant's submission of a “complete and integrated emergency plan” at the ESP stage, as well as provide an additional level of flexibility for an ESP applicant. Without allowing the use of EP-ITAAC (or other such placeholders) at the ESP stage, the staff would be unable to reach a reasonable assurance finding at the time of application. The use of EP-ITAAC would allow the staff to make its findings based on proposed, and not yet implemented, emergency plans. Table 13.3-1 provides a proposed set of allowable EP-ITAAC (for use at either the ESP or COL application stage). The asterisked/bolded text in the table represents the earlier set of COL EP-ITAAC that was approved by the Commission in SRM SECY-05-0197. Table 13.3-1 reflects a process of review allowed by 10 CFR part 52, and does not contain new or unreviewed staff positions relating to emergency planning requirements.

Dated at Rockville, Maryland, this 25th day of September, 2006.
For the Nuclear Regulatory Commission.
Robert Tregoning,
Branch Chief, New Reactor Infrastructure Guidance, Development Branch, Division of New Reactor Licensing.

[FR Doc. E6-16013 Filed 9-28-06; 8:45 am]

BILLING CODE 7590-01-P